DEPARTMENT OF HEALTH AND HUMAN SERVICES

National Institutes of Health

Office of the Director, National Institutes of Health; Notice of Meeting

Pursuant to section 1009 of the Federal Advisory Committee Act, as amended, notice is hereby given of a meeting of the Council of Councils.

The meeting will be held as a virtual meeting and is open to the public as indicated below. Individuals who plan to view the virtual meeting and need special assistance or other reasonable accommodations, to view the meeting should notify the Contact Person listed below in advance of the meeting. The open session will be videocast and can be accessed from the NIH Videocasting website http://videocast.nih.gov/.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Council of Councils.

Date: January 29, 2026.

Open: 10:00 a.m. to 1:00 p.m.

Agenda: Welcome and Opening Remarks; Reminders and Procedures; NIH Update; and Proposed Reorganization for the Division of Program Coordination, Planning, and Strategic Initiatives (DPCPSI), Office of the Director, NIH. DPCPSI is seeking public comment regarding its proposal to establish the following offices: Office of Research Innovation, Validation, and Application (ORIVA) and Office of Research Economics, Planning, and Analysis (OREPA). More information on this proposed reorganization can be found at: https://dpcpsi.nih.gov/proposed-reorg-establish-oriva-orepa. Any interested person may file written comments by sending an email to DPCPSIreorgcomments@nih.gov by 11:59 p.m. ET on Monday, January 26, 2026.

Address: National Institutes of Health, Office of the Director, Division of Program Coordination, Planning, and Strategic Initiatives, Building 1, Room 260 1 Center Drive, Bethesda, MD 20892, Virtual Meeting.

Closed: 2:00 p.m. to 5:25 p.m.

Agenda: Review of Grant Applications.

Address: National Institutes of Health, Office of the Director, Division of Program Coordination, Planning, and Strategic Initiatives, Building 1, Room 260 1 Center Drive, Bethesda, MD 20892, Virtual Meeting.

Contact Person: Robin I. Kawazoe Deputy Director, DPCPSI, Division of Program Coordination, Planning, and Strategic Initiatives, Office of the Director, National Institutes of Health, Building 1, Room 260 1 Center Drive, Bethesda, MD 20892, kawazoer@mail.nih.gov, 301-402-9852.

More information on this proposed reorganization can be found at: https://dpcpsi.nih.gov/proposed-reorg-establish-oriva-orepa. Any interested person may file written comments by sending an email to DPCPSIreorgcomments@nih.gov by 11:59 p.m. ET on Monday, January 26, 2026.

Information is also available on the Council of Council's home page at http://dpcpsi.nih.gov/council/ where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: January 12, 2026.
Bruce A. George,
Program Analyst, Office of Federal Advisory Committee Policy.

[FR Doc. 2026-00546 Filed 1-13-26; 8:45 am]

BILLING CODE 4140-01-P